SECURITIES AND EXCHANGE COMMISSION

Sunshine Act Meeting

Notice is hereby given, pursuant to the provisions of the Government in the Sunshine Act, Public Law 94-409, that the Securities and Exchange Commission Advisory Committee on Small and Emerging Companies will hold an Open Meeting on Monday, October 31, 2011, in the Multipurpose Room, L-006. The meeting will begin at 9 a.m. and will be open to the public. Seating will be on a first-come, first-served basis. Doors will open at 8:30 a.m. Visitors will be subject to security checks.

On October 7, 2011, the Commission published notice of the Committee meeting (Release No. 33-9266), indicating that the meeting is open to the public and inviting the public to submit written comments to the Committee. This Sunshine Act notice is being issued because a majority of the Commission may attend the meeting.

The agenda for the meeting includes opening remarks, introduction of Committee members, discussion of the Committee's agenda and organization, and discussion of capital formation issues relevant to small and emerging companies.

For further information, please contact the Office of the Secretary at (202) 551-5400.

October 21, 2011.
Elizabeth M. Murphy,
Secretary.

[FR Doc. 2011-27750 Filed 10-21-11; 4:15 pm]

BILLING CODE 8011-01-P